DEPARTMENT OF HOMELAND SECURITY

Transportation Security Administration

[Docket No. TSA-2006-24191]

Extension of Agency Information Collection Activity Under OMB Review; Transportation Worker Identification Credential (TWIC) Program

AGENCY: Transportation Security Administration, DHS.

ACTION: 30-day notice.

SUMMARY: This notice announces that the Transportation Security Administration (TSA) has forwarded the Information Collection Request (ICR), Office of Management and Budget (OMB) control number 1652-0047, abstracted below to OMB for review and approval of an extension of the currently approved collection under the Paperwork Reduction Act (PRA). The ICR describes the nature of the information collection and its expected burden. TSA published a Federal Register notice, with a 60-day period soliciting comments, of the following collection of information on April 26, 2011, 76 FR 23326. The collection involves the submission of required information necessary to conduct a security threat assessment on individuals applying for a TWIC and a voluntary customer satisfaction survey.

DATES: Send your comments by August 15, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Worker Identification Credential (TWIC) Program.

Type of Request: Extension of a currently approved collection.

OMB Control Number: 1652-0047.

Forms(s): TWIC Disclosure and Certification form (OMB 1652-0047) .

Affected Public: Individuals requiring unescorted access to facilities and vessels regulated by the Maritime Transportation Security Act (MTSA) and all mariners holding Coast Guard-issued credentials or qualification documents.

Abstract: The data collected will be used for processing TWIC enrollment and conducting the security threat assessment. At the enrollment center, applicants verify their biographic information and provide identity documentation, biometric information, and proof of immigration status (if required). This information allows TSA to complete a comprehensive security threat assessment. If TSA determines that the applicant is qualified to receive a TWIC, TSA notifies the applicant that their TWIC is ready for activation. Once activated, this credential will be used for identification verification and access control. TSA also conducts a survey to capture worker overall satisfaction with the enrollment process; this optional survey is provided during the activation period.

TSA acknowledges that an error in the 60-day notice was identified by a commenter which related to the length of the previous collection process. Additionally, the commenter questioned total burden hours estimated for 2011 and its associated cost, because it varied significantly from the previous filing in 2008. TSA will directly respond to the individual submitting this feedback.

Number of Respondents: The annualized number of total respondents is 401,330.

Estimated Annual Burden Hours: TSA provided incorrect hours in the 60-day filing and has corrected its estimates. The correct estimated annualized reporting burden is 919,110 hours, and the estimated annualized cost burden is $53,866,023.

Joanna Johnson,
TSA Paperwork Reduction Act Officer, Office of Information Technology.

[FR Doc. 2011-17757 Filed 7-13-11; 8:45 am]

BILLING CODE 9110-05-P